SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: November 1-30, 2021.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists the projects, described below, receiving approval for the consumptive use of water pursuant to the Commission's approval by rule process set forth in 18 CFR 806.22 (e) and 18 CFR 806.22 (f) for the time period specified above:

Water Source Approval—Issued Under 18 CFR 806.22(f):

1. Seneca Resources Company, LLC; Pad ID: Schildt 259; ABR-20091027.R2; Jackson Township, Tioga County, Pa.; Consumptive Use of Up to 4.0000 mgd; Approval Date: November 9, 2021.

2. Rockdale Marcellus, LLC; Pad ID: Heyler 748; ABR-201008031.R2; Morris Township, Tioga County, Pa.; Consumptive Use of Up to 4.9900 mgd; Approval Date: November 9, 2021.

3. Coterra Energy, Inc.; Pad ID: LippincoffF P1; ABR-201110014.R2; Brooklyn Township, Susquehanna County, Pa.; Consumptive Use of Up to 5.0000 mgd; Approval Date: November 9, 2021.

4. Coterra Energy, Inc.; Pad ID: ShieldsG P2; ABR-20091023.R2; Dimock Township, Susquehanna County, Pa.; Consumptive Use of Up to 5.0000 mgd; Approval Date: November 9, 2021.

5. Seneca Resources Company, LLC; Pad ID: Gamble Pad J; ABR-201511001.R1; Gamble Township, Lycoming County; Pa.; Consumptive Use of Up to 4.0000 mgd; Approval Date: November 12, 2021.

6. Repsol Oil & Gas USA, LLC; Pad ID: Haralambous (03 074) G; ABR-201108037.R2; Columbia Township, Bradford County; Pa.; Consumptive Use of Up to 6.0000 mgd; Approval Date: November 12, 2021.

7. EQT ARO LLC; Pad ID: COP Tract 731 Pad C; ABR-201109016.R2; Cummings Township, Lycoming County, Pa.; Consumptive Use of Up to 4.0000 mgd; Approval Date: November 12, 2021.

8. BKV Operating, LLC.; Pad ID: Henninger Pad; ABR-201110017.R2; Jessup Township, Susquehanna County, Pa.; Consumptive Use of Up to 5.0000 mgd; Approval Date: November 12, 2021.

9. Blackhill Energy LLC; Pad ID: PRUYNE 1H Pad; ABR-201110034.R2; Smithfield Township, Bradford County, Pa.; Consumptive Use of Up to 4.9900 mgd; Approval Date: November 12, 2021.

10. Blackhill Energy LLC; Pad ID: WOLFE Pad; ABR-201110033.R2; Smithfield Township, Bradford County, Pa.; Consumptive Use of Up to 4.9900 mgd; Approval Date: November 12, 2021.

11. Chesapeake Appalachia, L.L.C.; Pad ID: Bartholomew; ABR-201111012.R2; Franklin Township, Bradford County, Pa.; Consumptive Use of Up to 7.5000 mgd; Approval Date: November 15, 2021.

12. Chesapeake Appalachia, L.L.C.; Pad ID: Dulcey; ABR-201111020.R2; Franklin Township, Bradford County, Pa.; Consumptive Use of Up to 7.5000 mgd; Approval Date: November 15, 2021.

13. Repsol Oil & Gas USA, LLC; Pad ID: REINFRIED (02 113) C; ABR-201109004.R1; Ward Township, Tioga County, Pa.; Consumptive Use of Up to 6.0000 mgd; Approval Date: November 15, 2021.

14. Seneca Resources Company, LLC; Pad ID: Burleigh 508; ABR-20091019.R2; Rutland Township, Tioga County; Pa.; Consumptive Use of Up to 4.0000 mgd; Approval Date: November 15, 2021.

15. Pennsylvania General Energy Company, L.L.C.; Pad ID: COP Tract 293 Pad I; ABR-201111014.R2; Cummings Township, Lycoming County; Pa.; Consumptive Use of Up to 3.5000 mgd; Approval Date: November 16, 2021.

16. Seneca Resources Company, LLC; Pad ID: Hungerford 458; ABR-20091019.R2; Lawrence Township, Clearfield County, Pa.; Consumptive Use of Up to 4.0000 mgd; Approval Date: November 16, 2021.

17. Chief Oil & Gas, LLC; Pad ID: Beirne Green Hills Farms A Drilling Pad #1; ABR-201111024.R2; Asylum and Monroe Townships, Bradford County; Pa.; Consumptive Use of Up to 2.0000 mgd; Approval Date: November 19, 2021.

18. Diversified Production, LLC; Pad ID: Turkey; ABR-201107040.R2; Huston Township, Clearfield County; Pa.; Consumptive Use of Up to 1.0000 mgd; Approval Date: November 19, 2021.

19. Range Resources—Appalachia, LLC; Pad ID: Red Bend B Unit #1H—#8H; ABR-201111006.R2; Cogan House Township, Lycoming County, Pa.; Consumptive Use of Up to 4.0000 mgd; Approval Date: November 22, 2021.

20. Range Resources—Appalachia, LLC; Pad ID: Red Bend C Unit #1H—#5H; ABR-201111007.R2; Cogan House Township, Lycoming County, Pa.; Consumptive Use of Up to 4.0000 mgd; Approval Date: November 22, 2021.

21. Range Resources—Appalachia, LLC; Pad ID: Bobst Unit #34H—#37H; ABR-201111004.R2; Cogan House Township, Lycoming County, Pa.; Consumptive Use of Up to 4.0000 mgd; Approval Date: November 22, 2021.

22. Seneca Resources Company, LLC; Pad ID: Starks 461; ABR-20091108.R2; Richmond Township, Tioga County, Pa.; Consumptive Use of Up to 4.0000 mgd; Approval Date: November 23, 2021.

23. Seneca Resources Company, LLC; Pad ID: Yungwirth 307; ABR-20091110.R2; Charleston Township, Tioga County, Pa.; Consumptive Use of Up to 4.0000 mgd; Approval Date: November 23, 2021.

24. Seneca Resources Company, LLC; Pad ID: Barrett 410; ABR-20091107.R2; Jackson Township, Tioga County, Pa.; Consumptive Use of Up to 4.0000 mgd; Approval Date: November 23, 2021.

25. Seneca Resources Company, LLC; Pad ID: Button 402; ABR-20091113.R2; Jackson Township, Tioga County, Pa.; Consumptive Use of Up to 4.0000 mgd; Approval Date: November 23, 2021.

26. Chesapeake Appalachia, L.L.C.; Pad ID: Gestewitz; ABR-201111002.R2; North Towanda Township, Bradford County, Pa.; Consumptive Use of Up to 7.5000 mgd; Approval Date: November 29, 2021.

27. Chesapeake Appalachia, L.L.C.; Pad ID: LW; ABR-201111027.R2; Cherry Township, Sullivan County, Pa.; Consumptive Use of Up to 7.5000 mgd; Approval Date: November 29, 2021.

28, Chesapeake Appalachia, L.L.C.; Pad ID: Rossi; ABR-201111011.R2; Litchfield Township, Bradford County, Pa.; Consumptive Use of Up to 7.5000 mgd; Approval Date: November 29, 2021.

29. EQT ARO, LLC; Pad ID: David O Vollman Pad A; ABR-201011069.R2; Cogan House Township, Lycoming County, Pa.; Consumptive Use of Up to 4.0000 mgd; Approval Date: November 29, 2021.

30. Range Resources—Appalachia, LLC;; Pad ID: Gulf USA 40H—42H; ABR-201609001.R2; Snow Shoe Township, Centre County, Pa.; Consumptive Use of Up to 4.0000 mgd; Approval Date: November 30, 2021.

31. Inflection Energy (PA), LLC; Pad ID: Ultimate Warrior; ABR-201111036.R2; Upper Fairfield Township, Lycoming County, Pa.; Consumptive Use of Up to 4.0000 mgd; Approval Date: November 30, 2021.

32. Inflection Energy (PA), LLC; Pad ID: Stunner; ABR-201111037.R2; Gamble Township, Lycoming County, Pa.; Consumptive Use of Up to 4.0000 mgd; Approval Date: November 30, 2021.

33. Inflection Energy (PA), LLC; Pad ID: Nature Boy; ABR-201111035.R2; Upper Fairfield Township, Lycoming County, Pa.; Consumptive Use of Up to 4.0000 mgd; Approval Date: November 30, 2021.

34. Coterra Energy, Inc.; Pad ID: HessR P1; ABR-201111034.R2; Dimock Township, Susquehanna County, Pa.; Consumptive Use of Up to 5.0000 mgd; Approval Date: November 30, 2021.

Dated: December 22, 2021.
Jason E. Oyler,
General Counsel and Secretary to the Commission.

[FR Doc. 2021-28228 Filed 12-28-21; 8:45 am]

BILLING CODE 7040-01-P